DEPARTMENT OF JUSTICE

Notice of Lodging of Consent Decree Under the Comprehensive Environmental Response, Compensation, and Liability Act

Notice is hereby given that on October 5, 2000, a proposed Consent Decree in United States v. Menard, Inc., et al. (E.D. Wisconsin), Civil Action No. 00-C-1323 was lodged with the United States District Court for the Eastern District of Wisconsin.

This Consent Decree represents a settlement of claims brought against defendants (“Settling Defendants”) in the above-referenced action under section 107 of the Comprehensive Environmental Response, Compensation, and Recovery Act (“CERCLA”), 42 U.S.C. 9607, to recover costs incurred by the United States in connection with the Fadrowski Drum Disposal Site in Franklin, Wisconsin (the “Site”). The Settling Defendants are Menard, Inc., INX International Ink Company, Inc.; Briggs & Stratton Corporation; The Falk Corporation; Giddings & Lewis, LLC; AMSTED Industries, Incorporated; The Manitowoc Company, Inc.; Miller Brewing Company; Dresser Industries, Inc.; and Waukesha Engine Division, a Division of Dresser Equipment Group, Inc.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Menard, Inc., et al. (E.D. Wisconsin), D.J. Ref. 90-11-2-809/1.

The Consent Decree may be examined at the Office of the United States Attorney, 517 East Wisconsin Avenue, Room 530, Milwaukee, Wisconsin 53202, and at U.S. EPA Region 5, 77 West Jackson Boulevard, Chicago, Illinois 60604. A copy of the Consent Decree may also be obtained by mail from the Consent Decree Library, P.O. Box 7611, U.S. Department of Justice, Washington, DC 20044-7611. In requesting a copy, please enclose a check in the amount of $7.50 (25 cents per page reproduction cost), payable to the Consent Decree Library.

Bruce S. Gelber,
Chief, Environmental Enforcement Section, Environment and Natural Resources Division.

[FR Doc. 00-27532 Filed 10-25-00; 8:45 am]

BILLING CODE 4410-15-M